DEPARTMENT OF ENERGY

Federal Energy Regulatory Commission

Combined Notice of Filings #2

Take notice that the Commission received the following exempt wholesale generator filings:

Docket Numbers: EG24-114-000.

Applicants: Catalyze Bronx Bassett Ave Microgrid, LLC.

Description: Catalyze Bronx Bassett Ave Microgrid, LLC submits Notice of Self-Certification of Exempt Wholesale Generator Status.

Filed Date: 2/16/24.

Accession Number: 20240216-5130.

Comment Date: 5 p.m. ET 3/8/24.

Docket Numbers: EG24-115-000.

Applicants: Yuma Solar Energy LLC.

Description: Yuma Solar Energy LLC submits Notice of Self-Certification of Exempt Wholesale Generator Status.

Filed Date: 2/16/24.

Accession Number: 20240216-5196.

Comment Date: 5 p.m. ET 3/8/24.

Take notice that the Commission received the following electric rate filings:

Docket Numbers: ER22-2339-002.

Applicants: Southwest Power Pool, Inc.

Description: Compliance filing: Third Compliance Filing in Response to Order No. 881 to be effective 7/12/2025.

Filed Date: 2/16/24.

Accession Number: 20240216-5195.

Comment Date: 5 p.m. ET 3/8/24.

Docket Numbers: ER24-762-000; ER24-764-000.

Applicants: GB Arthur Kill Storage LLC, Elevate Renewables F7, LLC.

Description: Supplement to December 27, 2024 Elevate Renewables F7, LLC, et al. tariff filing.

Filed Date: 2/16/24.

Accession Number: 20240216-5163.

Comment Date: 5 p.m. ET 2/26/24.

Docket Numbers: ER24-1270-000.

Applicants: Prescott Wind Energy LLC.

Description: Baseline eTariff Filing: Application for Market-Based Sales Authorization to be effective 3/15/2024.

Filed Date: 2/16/24.

Accession Number: 20240216-5140.

Comment Date: 5 p.m. ET 3/8/24.

Docket Numbers: ER24-1271-000.

Applicants: Alton Post Office Solar, LLC.

Description: Baseline eTariff Filing: Market-Based Rate Application to be effective 4/17/2024.

Filed Date: 2/16/24.

Accession Number: 20240216-5146.

Comment Date: 5 p.m. ET 3/8/24.

Docket Numbers: ER24-1272-000.

Applicants: Foxglove Solar Project, LLC.

Description: Baseline eTariff Filing: Market-Based Rate Application to be effective 4/17/2024.

Filed Date: 2/16/24.

Accession Number: 20240216-5147.

Comment Date: 5 p.m. ET 3/8/24.

Docket Numbers: ER24-1274-000.

Applicants: Oleander Power Project, Limited Partnership.

Description: § 205(d) Rate Filing: Oleander Power Project Fourth Amendment to the PPA with Seminole to be effective 1/1/2025.

Filed Date: 2/16/24.

Accession Number: 20240216-5190.

Comment Date: 5 p.m. ET 3/8/24.

Docket Numbers: ER24-1275-000.

Applicants: Aron Energy Prepay 34 LLC.

Description: Baseline eTariff Filing: Baseline new to be effective 4/17/2024.

Filed Date: 2/16/24.

Accession Number: 20240216-5199.

Comment Date: 5 p.m. ET 3/8/24.

Docket Numbers: ER24-1276-000.

Applicants: Aron Energy Prepay 35 LLC.

Description: Baseline eTariff Filing: Baseline new to be effective 4/17/2024.

Filed Date: 2/16/24.

Accession Number: 20240216-5204.

Comment Date: 5 p.m. ET 3/8/24.

Docket Numbers: ER24-1277-000.

Applicants: Aron Energy Prepay 36 LLC.

Description: Baseline eTariff Filing: Baseline new to be effective 4/17/2024.

Filed Date: 2/16/24.

Accession Number: 20240216-5213.

Comment Date: 5 p.m. ET 3/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 16, 2024.
Debbie-Anne A. Reese,
Acting Secretary.

[FR Doc. 2024-03702 Filed 2-22-24; 8:45 am]

BILLING CODE 6717-01-P